DEPARTMENT OF TRANSPORTATION

Federal Motor Carrier Safety Administration

[Docket No. FMCSA-2023-0143]

Truck Leasing Task Force (TLTF); Notice of Public Meeting

AGENCY: Federal Motor Carrier Safety Administration (FMCSA), Department of Transportation (DOT).

ACTION: Notice of public meeting.

SUMMARY: This notice announces a meeting of the TLTF.

DATES: The meeting will be held on Thursday, January 18, 2024, from 10 a.m. to 4:30 p.m. ET. Requests for accommodations for a disability must be received by Friday, January 12. Requests to submit written materials for consideration during the meeting must be received no later than Friday, January 12.

ADDRESSES: The meeting will be held virtually for its entirety. Please register in advance of the meeting at www.fmcsa.dot.gov/tltf. A copy of the agenda for the entire meeting will be made available at www.fmcsa.dot.gov/tltf at least 1 week in advance of the meeting. Once approved, copies of the meeting minutes will be available at the website following the meeting. You may visit the TLTF website at www.fmcsa.dot.gov/tltf for further information on the committee and its activities.

FOR FURTHER INFORMATION CONTACT: Ms. Shannon L. Watson, Deputy Designated Federal Officer, TLTF, FMCSA, 1200 New Jersey Avenue SE, Washington, DC 20590, (202) 360-2925, tltf@dot.gov. Any committee-related request should be sent to the person listed in this section.

SUPPLEMENTARY INFORMATION:

I. Background

The TLTF was created under the Federal Advisory Committee Act (FACA) in accordance with section 23009 of the Bipartisan Infrastructure Law (BIL) (Pub. L. 117-58), which requires the Federal Motor Carrier Safety Administration (FMCSA) to establish the TLTF. The TLTF will examine the terms, conditions, and equitability of common truck leasing arrangements, particularly as they impact owner-operators and trucking businesses subject to such agreements and submit a report on the task force's identified issues and conclusions regarding truck leasing arrangements, including recommended best practices, to the Secretary, the Secretary of Labor, and the appropriate committees of Congress. The TLTF will work in coordination with, and be informed by, the United States Department of Labor.

The TLTF operates in accordance with FACA under the terms of the TLTF charter, filed February 11, 2022, and amended April 28, 2023.

II. Agenda

TLTF will begin consideration of Task 24-1: Inequitable Leasing Agreements and Terms in the Motor Carrier industry and Whether They Affect the Frequency of Maintenance Performed on Subjected Vehicles and Whether a Vehicle is Kept in a General State of Good Repair. In addition, FMCSA will provide an ethics presentation to the TLTF members.

III. Public Participation

The meeting will be open to the public via virtual platform. Advance registration via the website is required by Friday, January 12.

DOT is committed to providing equal access to this meeting for all participants. If you need alternative formats or services due to a disability, such as sign language interpretation or other ancillary aids, please contact the person listed in the FOR FURTHER INFORMATION CONTACT section by Friday, January 12.

Oral comments from the public will be heard during designated comment periods at the discretion of the TLTF chair and Designated Federal Officer. To accommodate as many speakers as possible, the time for each commenter may be limited. Speakers are requested to submit a written copy of their remarks for inclusion in the meeting records and for circulation to TLTF members. All prepared remarks submitted on time will be accepted and considered as part of the record. Any member of the public may present a written statement to the committee at any time.

Larry W. Minor,
Associate Administrator for Policy.

[FR Doc. 2023-28794 Filed 12-29-23; 8:45 am]

BILLING CODE 4910-EX-P